DEPARTMENT OF THE INTERIOR

Geological Survey

[GX22EF00COM0000]

Reconciliation of Derogatory Geographic Names

AGENCY: Geological Survey, Interior.

ACTION: Notice with public comments.

SUMMARY: The U.S. Department of the Interior (DOI) is requesting public comment on candidate replacement names for geographic feature names recently declared derogatory by DOI Secretary's Order 3404.

DATES: Interested persons are invited to submit comments on or before April 25, 2022.

ADDRESSES: You may send comments, identified by Docket Number DOI-2022-0001, by either of the following methods:

• Federal eRulemaking Portal: You may submit written comments online at http://www.regulations.gov by entering “DOI-2022-0001” in the Search bar and clicking “Search”.

• Mail: Reconciliation of Derogatory Geographic Names, MS-511, U.S. Geological Survey, 12201 Sunrise Valley Dr., Reston, VA 20192.

Instructions: All submissions received must include the agency name and docket number. All comments received will be posted without change to http://www.regulations.gov, including any personal information provided. Please include the Feature ID (FID) of the feature(s) of interest when submitting your comment. The FID for each feature is located in Column B of the posted list.

FOR FURTHER INFORMATION CONTACT: To request additional information about this notice, please submit your question or request to SO3404_FRNquestions@usgs.gov, or contact Michael Tischler at 703-344-4348. Persons who use a telecommunications device for the deaf (TDD) may call the Federal Relay Service (FRS) at 1-800-877-8339, or dial 711. The FRS is available 24 hours a day, 7 days a week, to leave a message or question. You will receive a reply during normal business hours which are 9:00 a.m. to 5:30 p.m., Monday through Friday, except for Federal holidays.

SUPPLEMENTARY INFORMATION: In accordance with DOI Secretary's Order 3404 established under 43 U.S.C. 364-364f, a list of candidate geographic names to replace those declared derogatory by the Secretary's Order will be available for public comment in the Federal Register for a period of no less than 30 days. A list of five candidate names for each feature was developed by the U.S. Geological Survey as directed by the Secretary's Order. The candidate replacement names were derived through a search of nearby named geographic features until at least five nearby names were available. The candidate replacement name will replace the derogatory modifier. For example, “Castle Creek” is the nearest named feature to “Squaw Mesa”. The first candidate replacement name for the derogatory named feature would be “Castle Mesa”. Proposed additional candidate names will also be accepted during the public comment period.

The Derogatory Geographic Names Task Force created by the Secretary's Order will consider all public comments on the list of proposed replacement names and any proposed additional candidate names in developing a single recommended replacement name for each feature. Several proposals to rename a feature covered by SO 3404 have been received by the Board on Geographic Names (BGN) through their conventional process and are not yet resolved. These proposed names are indicated in the list, will be provided to the Task Force, and will be prioritized ahead of the candidate names determined by proximity.

Replacement names, to the extent possible, shall adhere to the Board on Geographic Names Principles, Policies, and Procedures for the Domestic Names Committee. BGN Policy V regarding Derogatory and Offensive Names now applies to the word `Squaw' as it is declared derogatory by the Secretary's Order. Replacement names proposed during the public comment period that are in clear violation of an existing policy will not be considered by the Task Force. The list of all replacement names recommended by the Task Force will be submitted to the BGN Domestic Names Committee for final adjudication.

The list of candidate names under review by the Task Force is available at https://www.usgs.gov/us-board-on-geographic-names/so3404-candidate-names-list.

Authority: The authority for this Order is established under 43 U.S.C. 364-364f.

Michael Tischler,
Director, National Geospatial Program, U.S. Geological Survey, Chair, DOI Derogatory Names Task Force.

[FR Doc. 2022-03748 Filed 2-22-22; 8:45 am]

BILLING CODE 4338-11-P